DEPARTMENT OF TRANSPORTATION

Federal Aviation Administration

Notice of Passenger Facility Charge (PFC) Approvals and Disapprovals

AGENCY: Federal Aviation Administration (FAA), DOT.

ACTION: Monthly Notice of PFC Approvals and Disapprovals. In July 2007, there were three applications approved. Additionally, 22 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Colorado Springs, Colorado.

Application Number: 07-11-C-00-CPS.

Applications Type: Impose and Use a PFC.

PFC Level: $3.00.

Total PFC Revenue Approved in This Decision: $758,359.

Earliest Charge Effective Date: May 1, 2009.

Estimated Charge Expiration Date: August 1, 2009.

Class of Air Carriers Not Required to Collect PFC'S: None.

Brief Description of Projects Approved for Collection and Use:

Rehabilitate portions of taxiways E and G (phase 1).

Vehicle service road—east side perimeter (phase 1).

Fleet improvements (2007) (snow removal equipment).

Ramp panel study.

Decision Date: July 9, 2007.

FOR FURTHER INFORMATION CONTACT: Chris Schaffer, Denver Airports District Office, (303) 342-1258.

Public Agency: City of Kearney, Nebraska.

Application Number: 07-02-C-00-EAR.

Application Type: Impose and Use a PFC.

PFC Level: $4.50.

Total PFC Revenue Approved in This Decision: $153,893.

Earliest Charge Effective Date: September 1, 2007.

Estimated Charge Expiration Date: October 1, 2009.

Class of Air Carriers Not Required to Collect PFC's: None.

Brief Description of Projects Approved for Collection and Use:

Runway 18/36 rejuvenation.

Snow removal equipment building.

Apron taxilane reconstruction.

Apron lighting.

Decision Date: July 16, 2007.

For Further Information Contact: Lorna Snadridge, Central Region Airports Division (816) 329-2641.

Public Agency: Maryland Aviation Administration, Baltimore, Maryland.

Application Number: 07-06-U-00-BWI.

Application Type: Use PFC revenue.

PFC Level: $4.50.

Total PFC Revenue to be Used in This Decision: $64,272,000.

Charge Effective Date: June 1, 2011.

Estimated Charge Expiration Date: January 1, 2016.

Class of Air Carriers Not Required to Collect PFC'S:

No change from previous decision.

Brief Description of Project Approved for Use:

Terminal area D/E baggage handling system upgrades (construction).

Decision Date: July 17, 2007.

FOR FURTHER INFORMATION CONTACT: Luis Loarte, Washington Airports District Office, (703) 661-1365.

Amendments to PFC Approvals
Amendment No. City, State | Amendment approved date | Original approved net PFC revenue | Amended approved net PFC revenue | Original estimated charge exp. date | Amended estimated charge exp. date
01-05-C-01-MLB, Melbourne, FL | 06/28/07 | $1,193,528 | $1,164,323 | 10/01/03 | 10/01/03
97-02-C-01-CSG, Columbus, GA | 07/09/07 | 199,000 | 168,968 | 09/01/05 | 09/01/95
97-01-C-02-PVG, Greenville, NC | 07/09/07 | 494,986 | 494,486 | 07/01/01 | 07/01/01
97-04-C-01-MHT, Manchester, NH | 07/11/07 | 527,500 | 527,070 | 02/01/98 | 02/01/98
93-01-C-04-ILM, Wilmington, NC | 07/12/07 | 1,669,168 | 1,526,487 | 09/01/96 | 09/01/96
97-02-U-01-ILM, Wilmington, NC | 07/12/07 | NA | NA | 09/01/96 | 09/01/96
05-01-C-01-EAR, Kearney, NE | 07/16/07 | 150,000 | 0 | 03/01/10 | 09-01/07
94-01-C-03-AVL, Asheville, NC | 07/17/07 | 5,645,711 | 5,622,844 | 10/01/02 | 10/01/02
95-04-C-01-HSV, Huntsville, AL | 07/18/07 | 16,174 | 22,676 | 02/01/03 | 02/01/03
04-02-C-01-RDU, Raleigh-Durham, NC | 07/18/07 | 595,223,253 | 765,251,376 | 07/01/32 | 09/01/32
00-09-C-01-OAK, Oakland, CA | 07/19/07 | 38,409,000 | 33,380,000 | 02/01/03 | 02/01/03
02-05-C-01-HDN, Hayden, CO | 07/19/07 | 1,052,470 | 1,009,039 | 12/01/05 | 12/01/05
03-07-C-02-RNO, Reno, NV | 07/19/07 | 9,426,597 | 5,556,400 | 12/01/04 | 12/01/04
*93-01-I-01-CWA, Mosinee, WI | 07/19/07 | 7,725,600 | 7,725,600 | 11/01/12 | 07/01/10
97-02-U-01-CWA, Mosinee, WI | 07/19/07 | NA | NA | 11/01/12 | 07/01/10
*97-03-C-01-CWA, Mosinee, WI | 07/19/07 | 3,529,500 | 3,529,500 | 07/01/19 | 04/01/16
98-03-C-02-FAR, Fargo, ND | 07/20/07 | 1,468,938 | 1,468,928 | 07/01/02 | 08/01/02
01-05-C-01-FAR, Fargo, ND | 07/20/07 | 1,387,328 | 1,475,152 | 07/01/04 | 07/01/04
92-01-I-01-STT, St. Thomas, VI | 07/24/07 | 3,871,005 | 3,808,574 | 08/01/95 | 08/01/95
94-02-U-01-STT, St. Thomas, VI | 07/24/07 | NA | NA | 08/01/95 | 08/01/95
96-04-U-01-STT, St. Thomas, VI | 07/24/07 | NA | NA | 08/01/95 | 08/01/95
97-02-C-02-ERI, Erie, PA | 07/25/07 | 1,216,914 | 1,216,914 | 05/01/01 | 05/01/01
Notes: The amendments denoted by an asterisk (*) include a change to the PFC level charged from $3.00 per enplaned passenger to $4.50 per enplaned passenger. For Mosinee, WI, this change is effective on September 1, 2007.

Issued in Washington, DC on July 31, 2007.
Joe Hebert,
Manager, Financial Analysis and Passenger Facility Charge Branch.

[FR Doc. 07-3816 Filed 08-2-07; 8:45 am]

BILLING CODE 4910-13-M